DEPARTMENT OF COMMERCE

Foreign-Trade Zones Board

[Docket 30-2005]

Foreign-Trade Zone 40—Cleveland, Ohio, Area Application for Expansion

An application has been submitted to the Foreign-Trade Zones (FTZ) Board (the Board), by the Cleveland-Cuyahoga County Port Authority, grantee of Foreign-Trade Zone 40, requesting authority to expand its zone in the Cleveland area, within the Cleveland Customs port of entry. The application was submitted pursuant to the provisions of the Foreign-Trade Zones Act, as amended (19 U.S.C. 81a-81u), and the regulations of the Board (15 CFR Part 400). It was formally filed on June 9, 2005.

FTZ 40 was approved on September 29, 1978 (Board Order 135, 43 FR 46886, 10/11/78) and expanded in June 1982 (Board Order 194, 47 FR 27579, 6/25/82); April 1992 (Board Order 574, 57 FR 13694, 4/17/92); February 1997 (Board Order 870, 62 FR 7750, 2/20/97); June 1999 (Board Order 1040, 64 FR 33242, 6/22/99); April 2002 (Board Order 1224, 67 FR 20087, 4/15/02); August 2003 (Board Order 1289, 68 FR 52384, 9/3/03; Board Order 1290, 68 FR 52384, 9/3/03; Board Order 1295, 68 FR 52383, 9/3/03); March 2004 (Board Order 1320, 69 FR 13283, 3/22/04; Board Order 1322, 69 FR 17642, 4/5/04); September 2004 (Board Order 1351, 69 FR 56038, 9/17/04); and, April 2005 (Board Orders 1384, 1385 and1386, 70 FR 21736, 4/27/05).

The general-purpose zone project currently consists of the following sites in the Cleveland area: Site 1 consists of 1,339 acres in Cleveland, which includes the Port of Cleveland complex (Site 1A-94 acres), the Cleveland Bulk Terminal (Site1B-45 acres), and the Tow Path Valley Business Park (Site1C-1,200 acres); Site 2 consists of 2,438 acres in Cleveland, which includes the Cleveland Hopkins International Airport (Site 2A-1,727 acres), the IX Center (Site 2B-175 acres), the Snow Road Industrial Park (Site 2C-42 acres), the Brook Park Road Industrial Park (Site 2D-322 acres), and the Cleveland Business Park (Site 2E-172 acres); Site 3 (450 acres) -- the Burke Lakefront Airport in Cleveland; Site 4 consists of 416 acres in Cleveland, which includes the Emerald Valley Business Park (Site 4A-298 acres) and the Solon Business Park (Site 4B-118 acres); Site 5 (17 acres) -- within the Collinwood Industrial Park in Cleveland; Site 6 consists of 434 acres in Strongsville, which includes the Strongsville Industrial Park (Site 6A-174 acres), the Progress Drive Business Park (Site 6B-48 acres, 3 parcels), and the Strongsville Commerce Center (Site 6C-212 acres); Site 7 (13 acres) -- East 40th Street between Kelley and Perkins Avenues (3830 Kelley Ave) in Cleveland; Site 8 (15 acres) -- within the Frane Properties Industrial Park in Morgan Township; Site 9 (170 acres, 2 parcels) -- within the Harbour Point Business Park in Vermilion; and, Site 10 (42 acres, 2 parcels) -- the Broad Oak Business Park in the Village of Oakwood.

The applicant is now requesting authority to expand the general-purpose zone to include an additional site in the Village of Oakwood: Proposed Site 10B (20 acres, 2 parcels) -- within the 100-acre Oakwood Commerce Center. The proposed site is bounded to the north by the Oak Leaf Oval, to the west by the Norfolk & Southern Railroad right-of-way, to the south by Alexander Road and to the east by Oak Leaf Road. The proposed site is owned by W & D Oakwood LLC and SBD properties and will be used for general warehousing and distribution activities.

No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW, Washington, DC 20005; or,

2. Submissions via the U.S. Postal Service: Foreign-Trade Zones Board, U.S. Department of Commerce, FCB-Suite 4100W, 1401 Constitution Avenue, NW, Washington, DC 20230.

The closing period for their receipt is August 15, 2005. Rebuttal comments in response to material submitted during the foregoing period may be submitted during the subsequent 15-day period (to August 29, 2005).

A copy of the application and accompanying exhibits will be available during this time for public inspection at address Number 1 listed above, and at the U.S. Department of Commerce Export Assistance Center, 600 Superior Avenue East, Suite 700, Cleveland, OH 44114.

Dated: June 9, 2005.
Dennis Puccinelli,
Executive Secretary.

[FR Doc. 05-11818 Filed 6-14-05; 8:45 am]

BILLING CODE 3510-DS-S